DEPARTMENT OF COMMERCE

National Oceanic and Atmospheric Administration

RIN 0648-XD086

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings in Seattle, WA.

DATES: The meetings will be held February 3 through February 11, 2014. See SUPPLEMENTARY INFORMATION for specific dates and times.

ADDRESSES: The meetings will be held at the Renaissance Hotel, 515 Madison Street, Seattle, WA.

Council address: North Pacific Fishery Management Council, 605 W. 4th Avenue, Suite 306, Anchorage, AK 99501-2252.

FOR FURTHER INFORMATION CONTACT: David Witherell, Council staff; telephone: (907) 271-2809.

SUPPLEMENTARY INFORMATION: The Council will begin its plenary session at 8 a.m. on Wednesday, February 5, continuing through Tuesday, February 11, 2014. The Scientific Statistical Committee (SSC) will begin at 8 a.m. on Monday, February 3 and continue through Wednesday, February 5, East Room. The Council's Advisory Panel (AP) will begin at 8 a.m. on Tuesday, February 4 and continue through Saturday, February 8, Northwest Room. The Observer Advisory Committee will meet February 3, 8 a.m.-5 p.m., South Room. The Ecosystem Committee will meet Tuesday, February 4, at 8:30 a.m., Marion Room. The Enforcement Committee will meet February 4, 1 p.m.-4 p.m., Marion Room. The Bering Sea Canyon Workshop will meet February 3, 12:30 p.m.-5:30 p.m., Northwest Room. The Community Fishing Associations Workshop will meet February 10, 1 p.m.-6 p.m., South Room. All meetings are open to the public, except executive sessions.

Council Plenary Session: The agenda for the Council's plenary session will include the following issues. The Council may take appropriate action on any of the issues identified.

1. Executive Director's Report (including review of Magnuson Stevens Act (MSA) legislation and review of Regional Operating agreement)

NMFS Management Report

ADF&G Report

USCG Report

IPHC Report

USFWS Report

Protected Species Report

2. Gulf (GOA) of Alaska pot cod sector participation—discussion paper

3. GOA of Alaska Tendering—update/discussion paper

4. Charter Halibut Common Pool proposal—review (T)

5. Definition of Fishing Guide—Final action

6. Grenadier Management—Final action

7. Bering Sea Aleutian Island (BSAI) Crab Bycatch Limits—Expanded Discussion paper

8. BSAI Halibut Prohibited Species Catch (PSC)—updated discussion paper

9. Community Development Quota (CDQ) Pacific cod fishery development—discussion paper

10. Aleutian Islands Pacific cod catcher vessel allocation/delivery—Update/Discussion paper

11. Steller Sea Lion (SSL) Environmental Impact Statement (EIS)—action as necessary (T)

12. Observer Program performance-review outline

13. Electronic monitoring-update

14. Observer program regulatory amendments—discussion paper

15. Observer Advisory Committee Report

16. Ecosystem approach Vision Statement—review

17. Bering Sea Fishery Ecosystem plan (FEP)—discussion paper

18. Chinook salmon Economic Data Report (EDR) from Alaska Fishery Science Center

19. Crab Modeling Workshop Report (SSC Only)

20. Groundfish and Crab Economic Stock Assessment Fishery Evaluation (SAFE) reports (SSC review)

21. Staff Tasking—Committees and Staff Tasking

The Advisory Panel will address most of the same agenda issues as the Council except B reports.

The SSC agenda will include the following issues:

1. Chinook EDR

2. BSAI Canyons Workshop

3. Crab Remodeling

4. Economic SAFES

5. Ecosystem Vision

6. Bering Sea FEP

In addition to providing ongoing scientific advice for fishery management decisions, the SSC functions as the Councils primary peer review panel for scientific information as described by the Magnuson-Stevens Act section 302(g)(1)(e), and the National Standard 2 guidelines (78 FR 43066). The peer review process is also deemed to satisfy the requirements of the Information Quality Act, including the OMB Peer Review Bulletin guidelines.

The Agenda is subject to change, and the latest version will be posted at http://www.alaskafisheries.noaa.gov/npfmc/. Background documents, reports, and analyses for review are posted on the Council Web site in advance of the meeting. The names and organizational affiliations of SSC members are also posted on the Web site.

Special Accommodations

These meetings are physically accessible to people with disabilities. Requests for sign language interpretation or other auxiliary aids should be directed to Gail Bendixen at (907) 271-2809 at least 7 working days prior to the meeting date

Dated: January 13, 2014.
Tracey L. Thompson,
Acting Deputy Director, Office of Sustainable Fisheries, National Marine Fisheries Service.

[FR Doc. 2014-00737 Filed 1-15-14; 8:45 am]

BILLING CODE 3510-22-P